DEPARTMENT OF HEALTH AND HUMAN SERVICES

Indian Health Service

Notice of the Redesignation of the Service Delivery Area for the Wampanoag Tribe of Gay Head (Aquinnah)

AGENCY: Indian Health Service.

ACTION: Final notice.

SUMMARY: This final notice advises the public that the Indian Health Service (IHS) has decided to expand the geographic boundaries of the Purchased/Referred Care (PRC) service delivery area for the Wampanoag Tribe of Gay Head (Aquinnah) of Massachusetts pursuant to 42 CFR 136.22. The Aquinnah service delivery area previously covered Martha's Vineyard, Dukes County in the State of Massachusetts. The expanded service delivery area includes counties of Barnstable, Bristol, Norfolk, Plymouth, Suffolk, and Dukes Counties in the State of Massachusetts. The sole purpose of this expansion is to authorize Aquinnah to cover additional tribal members and beneficiaries under Aquinnah's PRC program using the existing Federal allocation for PRC funds.

DATES: The effective date of expansion will be 60 days from the date of this notice.

FOR FURTHER INFORMATION CONTACT: Terri Schmidt, Acting Director, Office of Resource Access and Partnerships, Indian Health Service, 5600 Fishers Lane, Mailstop 10E85C, Rockville, Maryland 20857. Telephone (301) 443-2694 (This is not a toll free number).

Background: The Indian Health Service (IHS) currently provides services under regulations codified at 42 CFR part 136, subparts A through C. Subpart C defines a Contract Health Service Delivery Area (CHSDA), now referred to as a Purchased/Referred Care (PRC) service delivery area, as the geographic area within which PRC will be made available by the IHS to members of an identified Indian community who reside in the area. Residence in a PRC service delivery area by a person who is within the scope of the Indian health program, as set forth in 42 CFR 136.12, creates no legal entitlement to PRC but only potential eligibility for services. Services needed but not available at an IHS/Tribal facility are provided under the PRC program depending on the availability of funds, the person's relative medical priority, and the actual availability and accessibility of alternate resources in accordance with the regulations.

As applicable to the Tribes, these regulations provide that, unless otherwise designated, a PRC service delivery area shall consist of a county which includes all or part of a reservation and any county or counties which have a common boundary with the reservation. 42 CFR 136.22(a)(6). The regulations also provide that after consultation with the Tribal governing body or bodies on those reservations included within the PRC service delivery area, the Secretary may from time to time, redesignate areas within the United States for inclusion in or exclusion from a PRC service delivery area. The regulations require that certain criteria must be considered before any redesignation is made. The criteria are as follows:

(1) The number of Indians residing in the area proposed to be so included or excluded;

(2) Whether the Tribal governing body has determined that Indians residing in the area near the reservation are socially and economically affiliated with the tribe;

(3) The geographic proximity to the reservation of the area whose inclusion or exclusion is being considered; and

(4) The level of funding which would be available for the provision of PRC.

Additionally, the regulations require that any redesignation of a PRC service delivery area must be made in accordance with the Administrative Procedures Act (5 U.S.C. 553). In compliance with this requirement, IHS published a proposed notice of redesignation and requested public comments on August 24, 2015 (80 FR 51281). Aquinnah requested that IHS expand the Aquinnah service delivery area to include Barnstable, Bristol, Norfolk, Plymouth and Suffolk Counties in the State of Massachusetts.

In support of this expansion, IHS adopts the following findings of the Aquinnah Tribe:

(1) By expanding, the Tribe's estimated current eligible population will be increased by 268.

(2) The Tribe has determined these 268 individuals are socially and economically affiliated with the Tribe.

(3) The expanded area including Barnstable, Bristol, Norfolk, Plymouth, and Suffolk Counties in the State of Massachusetts are across the Bay from Martha's Vineyard, Dukes County, Massachusetts.

(4) The Tribal members located in these counties currently do not use the Indian health system for their health care needs.

Aquinnah will use its existing Federal allocation for PRC funds to provide services to the expanded population. No additional financial resources will be allocated by IHS to Aquinnah to provide services to its members residing in these counties nor should this expansion be construed to have any present or future effect on the allocation of resources between the Mashpee Wampanoag Tribe and Aquinnah.

Public Comments: The Agency only received comments from the Mashpee Wampanoag Tribe (Mashpee). Mashpee incorporated several letters into its submission. Through these comments and letters, Mashpee indicated that it does not support the proposed redesignation and articulated several objections to the expansion, which IHS addresses below:

Comment: IHS has failed to meet its legal requirement to meaningfully consult with the Mashpee Tribe as the only other Tribal governing body within the proposed redesignated SDA in accordance with 42 CFR 136.22(b).

Response: IHS disagrees. IHS consulted with the Mashpee Tribe regarding this proposed expansion. As Mashpee noted in its own submission, IHS engaged in government-to-government discussions and correspondence on this issue. IHS provided its answers to the Mashpee Tribe's questions in a letter from Deputy Director McSwain to Mashpee Chairman Cromwell, dated October 5, 2015. While Mashpee questions the adequacy of IHS's answers, they nonetheless demonstrate that IHS has engaged in meaningful consultation with Mashpee with respect to this expansion. Additionally, the opportunity to submit comments on a proposed notice is a form of consultation. IHS recognizes that Mashpee has concerns with the expansion and does not support the IHS decisions in this regard. IHS is not required, after consultation with a Tribe, to adopt the specific position of the Mashpee Tribe.

Comment: IHS has no legal authority to contravene the clear legal mandate of the Wampanoag Tribal Council of Gay Head, Inc., Indian Claims Settlement Act of 1987.

Response: IHS agrees with the Mashpee Tribe that the Agency cannot contravene the Settlement Act, but the Agency does not believe the expansion is prohibited by the Settlement Act. It is HHS's understanding that the Settlement Act is not implemented by Department of the Interior (DOI) as a limitation for DOI programs and services. Accordingly, after conferring with DOI regarding its position, IHS has decided to revisit the expansion issue. The establishment of PRC service delivery areas is an administrative function of IHS, governed by the regulations at 42 CFR 136.22. Historically, IHS has established service delivery areas in accordance with our understanding of Congressional intent, for example as evidenced by geographically designated areas identified in settlement acts, such as Public Law 100-95. IHS does not intend to abandon that practice. Under PRC regulations, however, IHS has preserved flexibility to redesignate areas as appropriate for inclusion in or exclusion from PRC service delivery. One of the criteria for such redesignations is the geographic proximity of the expanded area to the existing reservation or service delivery area. In the few circumstances where it has arisen, IHS has aligned geographic proximity with Congressional findings of “on or near”.

Here, IHS proposed to expand a PRC delivery area beyond the geographic description of “on or near” that Congress set forth in a settlement or recognition act. IHS offered stakeholders the opportunity to comment on the departure from historic practice by issuing a notice of proposed expansion prior to issuing a final notice to ascertain whether the departure is disruptive to tribes that have previously relied on IHS's historic practice. IHS did not receive comments that identify a detrimental reliance interest. Accordingly, when considering the geographic proximity of the proposed expansion area under 42 CFR 136.22 to the existing reservation (or service delivery area), IHS will no longer rigidly apply a Congressional finding of “on or near” as prohibiting PRC delivery area expansion in considering expansion requests. Although this is a change in the implementation of the redesignation authority found at 42 CFR 136.22, no change is necessary to the text of the regulation itself.

In making this change, however, IHS notes that Congress has, at times, statutorily enacted PRC service delivery areas for some tribes or for entire States. See, e.g. 25 U.S.C. 1678 (designating the entire State of Arizona). Those enactments may limit changes in PRC delivery area boundaries in some circumstances. Congress did not specifically establish a PRC service delivery area for Aquinnah in the Settlement Act; IHS administratively established this area through its regulations. While IHS chose to establish and limit the Aquinnah PRC service delivery area consistent with the language of the Act, in keeping with our current understanding of DOI practices, the language of the Act does not have to be read as preventing IHS from exercising its administrative discretion to expand or reduce that initially established area going forward. Indeed, IHS has already interpreted its authority to permit the establishment of PRC service delivery areas that go beyond what may otherwise be considered “on or near” a reservation. For example, IHS has administratively designated entire states as PRC service delivery areas, even though all parts of such states were not necessarily “on or near” a reservation. Nor does there appear to be any legislative history of the Act that would suggest that Congress intended the language of Section 1771 to be a limitation on IHS programs or administrative flexibility. There is also no evidence to suggest that Congress intended to limit eligibility for PRC services. Unless IHS administratively expands the PRC service delivery, however, Aquinnah cannot cover hundreds of its tribal members under PRC. IHS has therefore revisited Aquinnah's request and believes that unique circumstances are present that warrant expanding the Aquinnah PRC service delivery area beyond the general geographic area identified by Congress in Public Law 100-95 as “on or near”. These unique circumstances include the factors identified by the BIA in recognizing the Aquinnah prior to the enactment of Public Law 100-95, BIA's understanding of the settlement language, and Dukes County's status as an island and the significant number of Aquinnah's members who reside permanently off of the island and continue to maintain close economic and social ties with the Aquinnah.

The BIA recognized the Aquinnah Tribe as an Indian Tribe eligible for Federal benefits on February 10, 1987, pursuant to a notice published in the Federal Register. See 52 FR 4193. As part of its findings, BIA concluded “that the [Aquinnah] have an extensive and interrelated communication network connecting those Wampanoag members in Gay Head and elsewhere on Martha's Vineyard with each other and with those members living off-island.” The BIA further concluded that the Tribal government “maintained political influence and/or authority over both its resident and non-resident members.” Aquinnah has a significant number of members who are not residents of Dukes County. According to Aquinnah's estimates, 268 enrolled Aquinnah members are non-residents who remain actively involved with the Tribe, reside in Barnstable, Bristol, Norfolk, Plymouth and Suffolk Counties and are not currently eligible for PRC care.

Aquinnah provides limited direct services to its Tribal members by operating a small clinic in Dukes County that is open once or twice a month. To access direct care services, non-residents must travel over one and a half hours via ferry and car to receive the health care offered at the clinic. As a consequence, most non-residents do not seek care on the island.

Comment: The Mashpee tribe commented that the publication of the notice is arbitrary, capricious, and contrary to law.

Response: IHS disagrees. IHS's decision to publish a notice of the intention to expand the Aquinnah PRC service delivery area was not arbitrary, capricious, or contrary to law. IHS rules expressly authorize IHS to expand a PRC service delivery area through a notice issued pursuant to the Administrative Procedures Act (5 U.S.C. 553) and that process has been followed here. IHS is implementing a change in the way it reviews PRC delivery expansion requests, but that change is fully consistent with the existing language in the rules.

Comment: 42 CFR 136.22(a)(6) provides that “the [CHSDA] shall consist of a county which includes all or part of a reservation, and any county or counties which have a common boundary with the reservation.” As explained in the 2011 Declination Letter, “since the county is coextensive with the Atlantic Ocean island of Martha's Vineyard, there is no adjacent county to consider for inclusion in the CHSDA.”

Response: The comment references the starting point for establishing a PRC service delivery area. As noted above, IHS retains the administrative discretion to redesignate PRC service delivery areas after they are initially designated. The criteria for expansion requires IHS to consider geographic proximity, but it does not require IHS to limit expansion to adjacent counties.

Purchased/Referred Care Service Delivery Areas and Service Delivery Areas
Tribe/Reservation | County/State
Ak Chin Indian Community of the Maricopa (Ak Chin) Indian Reservation, Arizona | Pinal, AZ.
Alabama-Coushatta Tribes of Texas | Polk, TX.¹
Alaska | Entire State.²
Arapahoe Tribe of the Wind River Reservation, Wyoming | Hot Springs, WY, Fremont, WY, Sublette, WY.
Aroostook Band of Micmacs | Aroostook, ME.³
Assiniboine and Sioux Tribes of the Fort Peck Indian Reservation, Montana | Daniels, MT, McCone, MT, Richland, MT, Roosevelt, MT, Sheridan, MT, Valley, MT.
Bad River Band of the Lake Superior Tribe of Chippewa Indians of the Bad River Reservation, Wisconsin | Ashland, WI, Iron, WI.
Bay Mills Indian Community, Michigan | Chippewa, MI.
Blackfeet Tribe of the Blackfeet Indian Reservation of Montana | Glacier, MT, Pondera, MT.
Brigham City Intermountain School Health Center, Utah | (⁴)
Burns Paiute Tribe | Harney, OR.
California | Entire State, except for the counties listed in the footnote.⁵
Catawba Indian Nation | All Counties in SC ⁶, Cabarrus, NC, Cleveland, NC, Gaston, NC, Mecklenburg, NC, Rutherford, NC, Union, NC.
Cayuga Nation | Allegany, NY ⁷, Cattaraugus, NY, Chautauqua, NY, Erie, NY, Warren, PA.
Cheyenne River Sioux Tribe of the Cheyenne River Reservation, South Dakota | Corson, SD, Dewey, SD, Haakon, SD, Meade, SD, Perkins, SD, Potter, SD, Stanley, SD, Sully, SD, Walworth, SD, Ziebach, SD.
Chippewa-Cree Indians of the Rocky Boy's Reservation, Montana | Chouteau, MT, Hill, MT, Liberty, MT.
Chitimacha Tribe of Louisiana | St. Mary Parish, LA.
Cocopah Tribe of Arizona | Yuma, AZ, Imperial, CA.
Coeur D'Alene Tribe | Benewah, ID, Kootenai, ID, Latah, ID, Spokane, WA, Whitman, WA.
Colorado River Indian Tribes of the Colorado River Indian Reservation, Arizona and California | La Paz, AZ, Riverside, CA, San Bernardino, CA, Yuma, AZ.
Confederated Salish and Kootenai Tribes of the Flathead Reservation | Flathead, MT, Lake, MT, Missoula, MT, Sanders, MT.
Confederated Tribes and Bands of the Yakama Nation | Klickitat, WA, Lewis, WA, Skamania, WA ⁸, Yakima, WA.
Confederated Tribes of Siletz Indians of Oregon | Benton, OR ⁹, Clackamas, OR, Lane, OR, Lincoln, OR, Linn, OR, Marion, OR, Multnomah, OR, Polk, OR, Tillamook, OR, Washington, OR, Yam Hill, OR.
Confederated Tribes of the Chehalis Reservation | Grays Harbor, WA, Lewis, WA, Thurston, WA.
Confederated Tribes of the Colville Reservation, Washington | Chelan, WA ¹⁰, Douglas, WA, Ferry, WA, Grant, WA, Lincoln, WA, Okanogan, WA, Stevens, WA.
Confederated Tribes of the Coos, Lower Umpqua and Siuslaw Indians | Coos, OR ¹¹, Curry, OR, Douglas, OR, Lane, OR, Lincoln, OR.
Confederated Tribes of the Goshute Reservation, Nevada and Utah | Nevada, Juab, UT, Toole, UT.
Confederated Tribes of the Grand Ronde Community of Oregon | Polk, OR ¹², Washington, OR, Marion, OR, Yamhill, OR, Tillamook, OR, Multnomah, OR.
Confederated Tribes of the Umatilla Indian Reservation | Umatilla, OR, Union, OR.
Confederated Tribes of the Warm Springs Reservation of Oregon | Clackamas, OR, Jefferson, OR, Linn, OR, Marion, OR, Wasco, OR.
Coquille Indian Tribe | Coos, OR, Curry, OR, Douglas, OR, Jackson, OR, Lane, OR.
Coushatta Tribe of Louisiana | Allen Parish, LA, Elton, LA.¹³
Cow Creek Band of Umpqua Tribe of Indians | Coos, OR ¹⁴, Deshutes, OR, Douglas, OR, Jackson, OR, Josephine, OR, Klamath, OR, Lane, OR.
Cowlitz Indian Tribe | Clark, WA, Cowlitz, WA, King, WA, Lewis, WA, Pierce, WA, Skamania, WA, Thurston, WA, Columbia, OR ¹⁵, Kittitas, WA, Wahkiakum, WA.
Crow Creek Sioux Tribe of the Crow Creek Reservation, South Dakota | Brule, SD, Buffalo, SD, Hand, SD, Hughes, SD, Hyde, SD, Lyman, SD, Stanley, SD.
Crow Tribe of Montana | Big Horn, MT, Carbon, MT, Treasure, MT ¹⁶, Yellowstone, MT, Big Horn, WY, Sheridan, WY.
Eastern Band of Cherokee Indians | Cherokee, NC, Graham, NC, Haywood, NC, Jackson, NC, Swain, NC.
Flandreau Santee Sioux Tribe of South Dakota | Moody, SD.
Forest County Potawatomi Community, Wisconsin | Forest, WI, Marinette, WI, Oconto, WI.
Fort Belknap Indian Community of the Fort Belknap Reservation of Montana | Blaine, MT, Phillips, MT.
Fort McDermitt Paiute and Shoshone Tribes of the Fort McDermitt Indian Reservation, Nevada and Oregon | Nevada, Malheur, OR.
Fort McDowell Yavapai Nation, Arizona | Maricopa, AZ.
Fort Mojave Indian Tribe of Arizona, California and Nevada | Nevada, Mohave, AZ, San Bernardino, CA.
Gila River Indian Community of the Gila River Indian Reservation, Arizona | Maricopa, AZ, Pinal, AZ.
Grand Traverse Band of Ottawa and Chippewa Indians, Michigan | Antrim, MI ¹⁷, Benzie, MI, Charlevoix, MI, Grand Traverse, MI, Leelanau, MI, Manistee, MI.
Hannahville Indian Community, Michigan | Delta, MI, Menominee, MI.
Haskell Indian Health Center | Douglas, KS.¹⁸
Havasupai Tribe of the Havasupai Reservation, Arizona | Coconino, AZ.
Ho-Chunk Nation of Wisconsin | Adams, WI ¹⁹, Clark, WI, Columbia, WI, Crawford, WI, Dane, WI, Eau Claire, WI, Houston, MN, Jackson, WI, Juneau, WI, La Crosse, WI, Marathon, WI, Monroe, WI, Sauk, WI, Shawano, WI, Vernon, WI, Wood, WI.
Hoh Indian Tribe | Jefferson, WA.
Hopi Tribe of Arizona | Apache, AZ, Coconino, AZ, Navajo, AZ.
Houlton Band of Maliseet Indians | Aroostook, ME.²⁰
Hualapai Indian Tribe of the Hualapai Indian Reservation, Arizona | Coconino, AZ, Mohave, AZ, Yavapai, AZ.
Iowa Tribe of Kansas and Nebraska | Brown, KS, Doniphan, KS, Richardson, NE.
Jamestown S'Klallam Tribe | Clallam, WA, Jefferson, WA.
Jena Band of Choctaw Indians | Grand Parish, LA ²¹, LaSalle Parish, LA, Rapides Parish, LA.
Jicarilla Apache Nation, New Mexico | Archuleta, CO, Rio Arriba, NM, Sandoval, NM.
Kaibab Band of Paiute Indians of the Kaibab Indian Reservation, Arizona | Coconino, AZ, Mohave, AZ, Kane, UT.
Kalispel Indian Community of the Kalispel Reservation | Pend Oreille, WA, Spokane, WA.
Kewa Pueblo, New Mexico | Sandoval, NM, Santa Fe, NM.
Keweenaw Bay Indian Community, Michigan | Baraga, MI, Houghton, MI, Ontonagon, MI.
Kickapoo Traditional Tribe of Texas | Maverick, TX.²²
Kickapoo Tribe of Indians of the Kickapoo Reservation in Kansas | Brown, KS, Jackson, KS.
Klamath Tribes | Klamath, OR.²³
Koi Nation of Northern California (formerly known as Lower Lake Rancheria, California) | Lake, CA, Sonoma, CA.²⁴
Kootenai Tribe of Idaho | Boundary, ID.
Lac Courte Oreilles Band of Lake Superior Chippewa Indians of Wisconsin | Sawyer, WI.
Lac du Flambeau Band of Lake Superior Chippewa Indians of the Lac du Flambeau Reservation of Wisconsin. | Iron, WI, Oneida, WI, Vilas, WI.
Lac Vieux Desert Band of Lake Superior Chippewa Indians of Michigan | Gogebic, MI.
Little River Band of Ottawa Indians, Michigan | Kent, MI ²⁵, Muskegon, MI, Newaygo, MI, Oceana, MI, Ottawa, MI, Manistee, MI, Mason, MI, Wexford, MI, Lake, MI.
Little Traverse Bay Bands of Odawa Indians, Michigan | Alcona, MI ²⁵, Alger, MI, Alpena, MI, Antrim, MI, Benzie, MI, Charlevoix, MI, Cheboygan, MI, Chippewa, MI, Crawford, MI, Delta, MI, Emmet, MI, Grand Traverse, MI, Iosco, MI, Kalkaska, MI, Leelanau, MI, Luce, MI, Mackinac, MI, Manistee, MI, Missaukee, MI, Montmorency, MI, Ogemaw, MI, Oscoda, MI, Otsego, MI, Presque Isle, MI, Schoolcraft, MI, Roscommon, MI, Wexford, MI.
Lower Brule Sioux Tribe of the Lower Brule Reservation, South Dakota | Brule, SD, Buffalo, SD, Hughes, SD, Lyman, SD, Stanley, SD.
Lower Elwha Tribal Community | Clallam, WA.
Lower Sioux Indian Community in the State of Minnesota | Redwood, MN, Renville, MN.
Lummi Tribe of the Lummi Reservation | Whatcom, WA.
Makah Indian Tribe of the Makah Indian Reservation | Clallam, WA.
Mashantucket Pequot Tribe | New London, CT.²⁶
Mashpee Wampanoag Tribe | Barnstable, MA, Bristol, MA, Norfolk, MA, Plymouth, MA, Suffolk, MA.²⁷
Match-e-be-nash-she-wish Band of Pottawatomi Indians of Michigan | Allegan, MI ²⁸, Barry, MI, Kalamazoo, MI, Kent, MI, Ottawa, MI.
Menominee Indian Tribe of Wisconsin | Langlade, WI, Menominee, WI, Oconto, WI, Shawano, WI.
Mescalero Apache Tribe of the Mescalero Reservation, New Mexico | Chaves, NM, Lincoln, NM, Otero, NM.
Miccosukee Tribe of Indians | Broward, FL, Collier, FL, Miami-Dade, FL, Hendry, FL.
Minnesota Chippewa Tribe, Minnesota Bois Forte Band (Nett Lake) | Itasca, MN, Koochiching, MN, St. Louis, MN.
Minnesota Chippewa Tribe, Minnesota Fond du Lac Band | Carlton, MN, St. Louis, MN.
Minnesota Chippewa Tribe, Minnesota Grand Portage Band | Cook, MN.
Minnesota Chippewa Tribe, Minnesota Leech Lake Band | Beltrami, MN, Cass, MN, Hubbard, MN, Itasca, MN.
Minnesota Chippewa Tribe, Minnesota Mille Lacs Band | Aitkin, MN, Kanebec, MN, Mille Lacs, MN, Pine, MN.
Minnesota Chippewa Tribe, Minnesota White Earth Band | Becker, MN, Clearwater, MN, Mahnomen, MN, Norman, MN, Polk, MN.
Mississippi Band of Choctaw Indians | Attala, MS, Jasper, MS ²⁹, Jones, MS, Kemper, MS, Leake, MS, Neshoba, MS, Newton, MS, Noxubee, MS ²⁹, Scott, MS ³⁰, Winston, MS.
Mohegan Tribe of Indians of Connecticut | Fairfield, CT, Hartford, CT, Litchfield, CT, Middlesex, CT, New Haven, CT, New London, CT, Tolland, CT, Windham, CT.
Muckleshoot Indian Tribe | King, WA, Pierce, WA.
Narragansett Indian Tribe | Washington, RI.³¹
Navajo Nation, Arizona, New Mexico & Utah | Apache, AZ, Bernalillo, NM, Cibola, NM, Coconino, AZ, Kane, UT, McKinley, NM, Montezuma, CO, Navajo, AZ, Rio Arriba, NM, Sandoval, NM, San Juan, NM, San Juan, UT, Socorro, NM, Valencia, NM.
Nevada | Entire State.³²
Nez Perce Tribe | Clearwater, ID, Idaho, ID, Latah, ID, Lewis, ID, Nez Perce, ID.
Nisqually Indian Tribe | Pierce, WA, Thurston, WA.
Nooksack Indian Tribe | Whatcom, WA.
Northern Cheyenne Tribe of the Northern Cheyenne Indian Reservation, Montana | Big Horn, MT, Carter, MT ³³, Rosebud, MT.
Northwestern Band of Shoshoni Nation | Box Elder, UT.³⁴
Nottawaseppi Huron Band of the Potawatomi, Michigan | Allegan, MI ³⁵, Barry, MI, Branch, MI, Calhoun, MI, Kalamazoo, MI, Kent, MI, Ottawa, MI.
Oglala Sioux Tribe | Bennett, SD, Cherry, NE, Custer, SD, Dawes, NE, Fall River, SD, Jackson, SD ³⁶, Mellete, SD, Pennington, SD, Shannon, SD, Sheridan, NE, Todd, SD.
Ohkay Owingeh, New Mexico | Rio Arriba, NM.
Oklahoma | Entire State.³⁷
Omaha Tribe of Nebraska | Burt, NE, Cuming, NE, Monona, IA, Thurston, NE, Wayne, NE.
Oneida Nation of New York | Chenango, NY, Cortland, NY, Herkimer, NY, Madison, NY, Oneida, NY, Onondaga, NY.
Oneida Tribe of Indians of Wisconsin | Brown, WI, Outagamie, WI.
Onondaga Nation | Onondaga, NY.
Paiute Indian Tribe of Utah | Iron, UT ³⁸ Millard, UT, Sevier, UT, Washington, UT.
Pascua Yaqui Tribe of Arizona | Pima, AZ.³⁹
Passamaquoddy Tribe | Aroostook, ME ⁴⁰ ⁴¹, Washington, ME.
Penobscot Nation | Aroostook, ME ⁴⁰, Penobscot, ME.
Poarch Band of Creeks | Baldwin, AL ⁴², Elmore, AL, Escambia, AL, Mobile, AL, Monroe, AL, Escambia, FL.
Pokagon Band of Potawatomi Indians, Michigan and Indiana | Allegan, MI ⁴³, Berrien, MI, Cass, MI, Elkhart, IN, Kosciusko, IN, La Porte, IN, Marshall, IN, St. Joseph, IN, Starke, IN, Van Buren, MI.
Ponca Tribe of Nebraska | Boyd, NE ⁴⁴, Burt, NE, Charles Mix, SD, Douglas, NE, Hall, NE, Holt, NE, Knox, NE, Lancaster, NE, Madison, NE, Platte, NE, Pottawattomie, IA, Sarpy, NE, Stanton, NE, Wayne, NE, Woodbury, IA.
Port Gamble S'Klallam Tribe | Kitsap, WA.
Prairie Band of Potawatomi Nation | Jackson, KS.
Prairie Island Indian Community in the State of Minnesota | Goodhue, MN.
Pueblo of Acoma, New Mexico | Cibola, NM.
Pueblo of Cochiti, New Mexico | Sandoval, NM, Santa Fe, NM.
Pueblo of Isleta, New Mexico | Bernalillo, NM, Torrance, NM, Valencia, NM.
Pueblo of Jemez, New Mexico | Sandoval, NM.
Pueblo of Laguna, New Mexico | Bernalillo, NM, Cibola, NM, Sandoval, NM, Valencia, NM.
Pueblo of Nambe, New Mexico | Santa Fe, NM.
Pueblo of Picuris, New Mexico | Taos, NM.
Pueblo of Pojoaque, New Mexico | Rio Arriba, NM, Santa Fe, NM.
Pueblo of San Felipe, New Mexico | Sandoval, NM.
Pueblo of San Ildefonso, New Mexico | Los Alamos, NM, Rio Arriba, NM, Sandoval, NM, Santa Fe, NM.
Pueblo of Sandia, New Mexico | Bernalillo, NM, Sandoval, NM.
Pueblo of Santa Ana, New Mexico | Sandoval, NM.
Pueblo of Santa Clara, New Mexico | Los Alamos, NM, Sandoval, NM, Santa Fe, NM.
Pueblo of Taos, New Mexico | Colfax, NM, Taos, NM.
Pueblo of Tesuque, New Mexico | Santa Fe, NM.
Pueblo of Zia, New Mexico | Sandoval, NM.
Puyallup Tribe of the Puyallup Reservation | King, WA, Pierce, WA, Thurston, WA.
Quechan Tribe of the Fort Yuma Indian Reservation, California and Arizona | Yuma, AZ, Imperial, CA.
Quileute Tribe of the Quileute Reservation | Clallam, WA, Jefferson, WA.
Quinault Indian Nation | Grays Harbor, WA, Jefferson, WA.
Rapid City, South Dakota | Pennington, SD.⁴⁵
Red Cliff Band of Lake Superior Chippewa Indians of Wisconsin | Bayfield, WI.
Red Lake Band of Chippewa Indians, Minnesota | Beltrami, MN, Clearwater, MN, Koochiching, MN, Lake of the Woods, MN, Marshall, MN, Pennington, MN, Polk, MN, Roseau, MN.
Rosebud Sioux Tribe of the Rosebud Indian Reservation, South Dakota | Bennett, SD, Cherry, NE, Gregory, SD, Lyman, SD, Mellette, SD, Todd, SD, Tripp, SD.
Sac & Fox Nation of Missouri in Kansas and Nebraska | Brown, KS, Richardson, NE.
Sac & Fox Tribe of the Mississippi in Iowa | Tama, IA.
Saginaw Chippewa Indian Tribe of Michigan | Arenac, MI ⁴⁶, Clare, MI, Isabella, MI, Midland, MI, Missaukee, MI.
Saint Regis Mohawk Tribe | Franklin, NY, St. Lawrence, NY.
Salt River Pima-Maricopa Indian Community of the Salt River Reservation, Arizona | Maricopa, AZ.
Samish Indian Nation | Clallam, WA ⁴⁷, Island, WA, Jefferson, WA, King, WA, Kitsap, WA, Pierce, WA, San Juan, WA, Skagit, WA, Snohomish, WA, Whatcom, WA.
San Carlos Apache Tribe of the San Carlos Reservation, Arizona | Apache, AZ, Cochise, AZ, Gila, AZ, Graham, AZ, Greenlee, AZ, Pinal, AZ.
San Juan Southern Paiute Tribe of Arizona | Coconino, AZ, San Juan, UT.
Santee Sioux Nation, Nebraska | Bon Homme, SD, Knox, NE.
Sauk-Suiattle Indian Tribe | Snohomish, WA, Skagit, WA.
Sault Ste. Marie Tribe of Chippewa Indians, Michigan | Alger, MI ⁴⁸, Chippewa, MI, Delta, MI, Luce, MI, Mackinac, MI, Marquette, MI, Schoolcraft, MI.
Seminole Tribe of Florida | Broward, FL, Collier, FL, Miami-Dade, FL, Glades, FL, Hendry, FL.
Seneca Nation of Indians | Allegany, NY, Cattaraugus, NY, Chautauqua, NY, Erie, NY, Warren, PA.
Shakopee Mdewakanton Sioux Community of Minnesota | Scott, MN.
Shinnecock Indian Nation | Nassau, NY ⁴⁹, Suffolk, NY.
Shoalwater Bay Tribe of the Shoalwater Bay Indian Reservation | Pacific, WA.
Shoshone Tribe of the Wind River Reservation, Wyoming | Hot Springs, WY, Fremont, WY, Sublette, WY.
Shoshone-Bannock Tribes of the Fort Hall Reservation | Bannock, ID, Bingham, ID, Caribou, ID, Lemhi, ID ⁵⁰, Power, ID.
Shoshone-Paiute Tribes of the Duck Valley Reservation, Nevada | Nevada, Owyhee, ID.
Sisseton-Wahpeton Oyate of the Lake Traverse Reservation, South Dakota | Codington, SD, Day, SD, Grant, SD, Marshall, SD, Richland, ND, Roberts, SD, Sargent, ND, Traverse, MN.
Skokomish Indian Tribe | Mason, WA.
Skull Valley Band of Goshute Indians of Utah | Tooele, UT.
Snoqualmie Indian Tribe | King, WA ⁵¹, Snohomish, WA, Pierce, WA, Island, WA, Mason, WA.
Sokaogon Chippewa Community, Wisconsin | Forest, WI.
Southern Ute Indian Tribe of the Southern Ute Reservation, Colorado | Archuleta, CO, La Plata, CO, Montezuma, CO, Rio Arriba, NM, San Juan, NM.
Spirit Lake Tribe, North Dakota | Benson, ND, Eddy, ND, Nelson, ND, Ramsey, ND.
Spokane Tribe of the Spokane Reservation | Ferry, WA, Lincoln, WA, Stevens, WA.
Squaxin Island Tribe of the Squaxin Island Reservation | Mason, WA.
St. Croix Chippewa Indians of Wisconsin | Barron, WI, Burnett, WI, Pine, MN, Polk, WI, Washburn, WI.
Standing Rock Sioux Tribe of North & South Dakota | Adams, ND, Campbell, SD, Corson, SD, Dewey, SD, Emmons, ND, Grant, ND, Morton, ND, Perkins, SD, Sioux, ND, Walworth, SD, Ziebach, SD.
Stillaguamish Tribe of Indians of Washington | Snohomish, WA.
Stockbridge Munsee Community, Wisconsin | Menominee, WI, Shawano, WI.
Suquamish Indian Tribe of the Port Madison Reservation | Kitsap, WA.
Swinomish Indian Tribal Community | Skagit, WA.
Tejon Indian Tribe | Kern, CA.⁵²
Three Affiliated Tribes of the Fort Berthold Reservation, North Dakota | Dunn, ND, Mercer, ND, McKenzie, ND, McLean, ND, Mountrail, ND, Ward, ND.
Tohono O'odham Nation of Arizona | Maricopa, AZ, Pima, AZ, Pinal, AZ.
Tonawanda Band of Seneca | Genesee, NY, Erie, NY, Niagara, NY.
Tonto Apache Tribe of Arizona | Gila, AZ.
Trenton Service Unit, North Dakota and Montana | Divide, ND ⁵³, McKenzie, ND, Williams, ND, Richland, MT, Roosevelt, MT, Sheridan, MT.
Tulalip Tribes of Washington | Snohomish, WA.
Tunica-Biloxi Indian Tribe | Avoyelles, LA, Rapides, LA.⁵⁴
Turtle Mountain Band of Chippewa Indians of North Dakota | Rolette, ND.
Tuscarora Nation | Niagara, NY.
Upper Sioux Community, Minnesota | Chippewa, MN, Yellow Medicine, MN.
Upper Skagit Indian Tribe | Skagit, WA.
Ute Indian Tribe of the Uintah & Ouray Reservation, Utah | Carbon, UT, Daggett, UT, Duchesne, UT, Emery, UT, Grand, UT, Rio Blanco, CO, Summit, UT, Uintah, UT, Utah, UT, Wasatch, UT.
Ute Mountain Tribe of the Ute Mountain Reservation, Colorado, New Mexico & Utah | Apache, AZ, La Plata, CO, Montezuma, CO, San Juan, NM, San Juan, UT.
Wampanoag Tribe of Gay Head (Aquinnah) | Dukes, MA ⁵⁵, Barnstable, MA, Bristol, MA, Norfolk, MA, Plymouth, MA, Suffolk, MA.⁵⁶
Washoe Tribe of Nevada & California | Nevada, California except for the counties listed in footnote.
White Mountain Apache Tribe of the Fort Apache Reservation, Arizona | Apache, AZ, Coconino, AZ, Gila, AZ, Graham, AZ, Greenlee, AZ, Navajo, AZ.
Wilton Rancheria, California | Sacramento, CA.⁵⁷
Winnebago Tribe of Nebraska | Dakota, NE, Dixon, NE, Monona, IA, Thurston, NE, Wayne, NE, Woodbury, IA.
Yankton Sioux Tribe of South Dakota | Bon Homme, SD, Boyd, NE, Charles Mix, SD, Douglas, SD, Gregory, SD, Hutchinson, SD, Knox, NE.
Yavapai-Apache Nation of the Camp Verde Indian Reservation, Arizona | Yavapai, AZ.
Yavapai-Prescott Indian Tribe | Yavapai, AZ.
Ysleta Del Sur Pueblo of Texas | El Paso, TX.¹
Zuni Tribe of the Zuni Reservation, New Mexico | Apache, AZ, Cibola, NM, McKinley, NM, Valencia, NM.
¹ Public Law 100-89, Restoration Act for Ysleta Del Sur and Alabama and Coushatta Tribes of Texas establishes service areas for “members of the Tribe” by sections 101(3) and 105(a) for the Pueblo and sections 201(3) and 206(a) respectively.
² Entire State of Alaska is included as a CHSDA by regulation (42 CFR 136.22(a)(1)).
³ Aroostook Band of Micmacs was recognized by Congress on November 26, 1991, through the Aroostook Band of Micmac Settlement Act. Aroostook County, ME, was defined as the SDA.
⁴ Special programs have been established by Congress irrespective of the eligibility regulations. Eligibility for services at these facilities is based on the legislative history of the appropriation of funds for the particular facility rather than the eligibility regulations. Historically services have been provided at Brigham City Intermountain School Health Center, Utah (Pub. L. 88-358).
⁵ Entire State of California, excluding the counties of Alameda, Contra Costa, Los Angeles, Marin, Orange, Sacramento, San Francisco, San Mateo, Santa Clara, Kern, Merced, Monterey, Napa, San Benito, San Joaquin, San Luis Obispo, Santa Cruz, Solano, Stanislaus, and Ventura, is designated a CHSDA (25 U.S.C. 1680).
⁶ The counties were recognized after the January 1984 CHSDA FRN was published, in accordance with Pub. L. 103-116, Catawba Indian Tribe of South Carolina Land Claims Settlement Act of 1993, dated October 27, 1993.
⁷ There is no reservation for the Cayuga Nation; the service delivery area consists of those counties identified by the Cayuga Nation.
⁸ Skamania County, WA, has historically been a part of the Yakama Service Unit population since 1979.
⁹ In order to carry out the Congressional intent of the Siletz Restoration Act, Pub. L. 95-195, as expressed in H. Report No. 95-623, at page 4, members of the Confederated Tribes of Siletz Indians of Oregon residing in these counties are eligible for contract health services.
¹⁰ Chelan County, WA, has historically been a part of the Colville Service Unit population since 1970.
¹¹ Pursuant to Pub. L. 98-481 (H. Rept. No. 98-904), Coos, Lower Umpqua and Siuslaw Restoration Act, members of the Tribe residing in these counties were specified as eligible for Federal services and benefits without regard to the existence of a Federal Indian reservation.
¹² The Confederated Tribes of Grand Ronde Community of Oregon were recognized by Pub. L. 98-165 which was signed into law on November 22, 1983, and provides for eligibility in these six counties without regard to the existence of a reservation.
¹³ The CHSDA for the Coushatta Tribe of Louisiana was expanded administratively by the Director, IHS, through regulation (42 CFR 136.22(6)) to include city limits of Elton, LA.
¹⁴ Cow Creek Band of Umpqua Tribe of Indians recognized by Pub. L. 97-391, signed into law on December 29, 1983. House Rept. No. 97-862 designates Douglas, Jackson, and Josephine Counties as a service area without regard to the existence of a reservation. The IHS later administratively expanded the CHSDA to include the counties of Coos, OR, Deshutes, OR, Klamath, OR, and Lane, OR.
¹⁵ The Cowlitz Indian Tribe was recognized in July 2002 as documented at 67 FR 46329, July 12, 2002. The counties listed were designated administratively as the SDA, to function as a CHSDA, for the purposes of operating a CHS program pursuant to the ISDEAA, Pub. L. 93-638. The CHSDA was administratively expanded to included Columbia County, OR, Kittitas, WA, and Wahkiakum County, WA, as published at 67884 FR December 21, 2009.
¹⁶ Treasure County, MT, has historically been a part of the Crow Service Unit population.
¹⁷ The counties listed have historically been a part of the Grand Traverse Service Unit population since 1980.
¹⁸ Haskell Indian Health Center has historically been a part of Kansas Service Unit since 1979. Special programs have been established by Congress irrespective of the eligibility regulations. Eligibility for services at these facilities is based on the legislative history of the appropriation of funds for the particular facility rather than the eligibility regulations. Historically services have been provided at Haskell Indian Health Center (H. Rept. No. 95-392).
¹⁹ CHSDA counties for the Ho-Chunk Nation of Wisconsin were designated by regulation (42 CFR 136.22(a)(5)). Dane County, WI, was added to the reservation by the Bureau of Indian Affairs in 1986.
²⁰ Public Law 97-428 provides that any member of the Houlton Band of Maliseet Indians in or around the Town of Houlton shall be eligible without regard to existence of a reservation.
²¹ The Jena Band of Choctaw Indian was Federally acknowledged as documented at 60 FR 28480, May 31, 1995. The counties listed were designated administratively as the SDA, to function as a CHSDA, for the purposes of operating a CHS program pursuant to the ISDEAA, Pub. L. 93-638.
²² Kickapoo Traditional Tribe of Texas, formerly known as the Texas Band of Kickapoo, was recognized by Pub. L. 97-429, signed into law on January 8, 1983. The Act provides for eligibility for Kickapoo Tribal members residing in Maverick County without regard to the existence of a reservation.
²³ The Klamath Indian Tribe Restoration Act (Pub. L. 99-398, Sec. 2(2)) states that for the purpose of Federal services and benefits “members of the tribe residing in Klamath County shall be deemed to be residing in or near a reservation”.
²⁴ The Koi Nation of Northern California, formerly known as the Lower Lake Rancheria, was reaffirmed by the Secretary of the Bureau of Indian Affairs on December 29, 2000. The counties listed were designated administratively as the SDA, to function as a PRC SDA, for the purposes of operating a PRC program pursuant to the ISDEAA, Pub. L. 93-638.
²⁵ The Little Traverse Bay Bands of Odawa Indians and the Little River Band of Ottawa Indians Act recognized the Little River Band of Ottawa Indians and the Little Traverse Bay Bands of Odawa Indians. Pursuant to Pub. L. 103-324, Sec.4(b) the counties listed were designated administratively as the SDA, to function as a CHSDA, for the purposes of operating a CHS program pursuant to the ISDEAA, Pub. L. 93-638.
²⁶ Mashantucket Pequot Indian Claims Settlement Act, Pub. L. 98-134, signed into law on October 18, 1983, provides a reservation for the Mashantucket Pequot Indian Tribe in New London County, CT.
²⁷ The Mashpee Wampanoag Tribe was recognized in February 2007, as documented at 72 FR 8007, February 22, 2007. The counties listed were designated administratively as the SDA, to function as a CHSDA, for the purposes of operating a CHS program pursuant to the ISDEAA, Pub. L. 93-638.
²⁸ The Match-e-be-nash-she-wish Band of Pottawatomi Indians of Michigan was recognized in October 1998, as documented at 63 FR 56936, October 23, 1998. The counties listed were designated administratively as the SDA, to function as a CHSDA, for the purposes of operating a CHS program pursuant to the ISDEAA, Pub. L. 93-638.
²⁹ Members of the Mississippi Band of Choctaw Indians residing in Jasper and Noxubee Counties, MS, are eligible for contract health services; these two counties were inadvertently omitted from 42 CFR 136.22.
³⁰ Scott County, MS, has historically been a part of the Choctaw Service Unit population since 1970.
³¹ The Narragansett Indian Tribe was recognized by Pub. L. 95-395, signed into law September 30, 1978. Lands in Washington County, RI, are now Federally restricted and the Bureau of Indian Affairs considers them as the Narragansett Indian Reservation.
³² Entire State of Nevada is included as a CHSDA by regulation (42 CFR 136.22(a)(2)).
³³ Carter County, MT, has historically been a part of the Northern Cheyenne Service Unit population since 1979.
³⁴ Land of Box Elder County, Utah, was taken into trust for the Northwestern Band of Shoshoni Nation in 1986.
³⁵ The Nottawaseppi Huron Band of the Potawatomi, Michigan, formerly known as the Huron Band of Potawatomi, Inc., was recognized in December 1995, as documented at 60 FR 66315, December 21, 1995. The counties listed were designated administratively as the SDA, to function as a CHSDA, for the purposes of operating a CHS program pursuant to the ISDEAA, Pub. L. 93-638.
³⁶ Washabaugh County, SD, merged and became part of Jackson County, SD, in 1983; both were/are CHSDA counties for the Oglala Sioux Tribe.
³⁷ Entire State of Oklahoma is included as a CHSDA by regulation (42 CFR 136.22(a)(3)).
³⁸ Paiute Indian Tribe of Utah Restoration Act, Pub. L. 96-227, provides for the extension of services for the Paiute Indian Tribe of Utah to these four counties without regard to the existence of a reservation.
³⁹ Legislative history (H.R. Report No. 95-1021) to Pub. L.95-375, Extension of Federal Benefits to Pascua Yaqui Indians, Arizona, expresses congressional intent that lands conveyed to the Pascua Yaqui Tribe of Arizona pursuant to Act of October 8, 1964. (Pub. L. 88-350) shall be deemed a Federal Indian Reservation.
⁴⁰ The Maine Indian Claims Settlement Act of 1980 (Pub. L. 96-420; H. Rept. 96-1353) includes the intent of Congress to fund and provide contract health services to the Passamaquoddy Tribe and the Penobscot Nation.
⁴¹ The Passamaquoddy Tribe has two reservations. The PRC SDA for the Passamaquoddy Tribe of Indian Township, ME, is Aroostook County, ME, and Washington County, ME. The PRC SDA for the Passamaquoddy Tribe of Pleasant Point, ME, is Aroostook County ME, and Washington County, ME, south of State Route 9.
⁴² Counties in the Service Unit designated by Congress for the Poarch Band of Creek Indians (see H. Rept. 98-886, June 29, 1984; Cong. Record, October 10, 1984, Pg. H11929).
⁴³ Pub. L. 103-323 restored Federal recognition to the Pokagon Band of Potawatomi Indians, Michigan and Indiana, in 1994 and identified counties to serve as the SDA.
⁴⁴ The Ponca Restoration Act, Pub. L. 101-484, recognized members of the Ponca Tribe of Nebraska in Boyd, Douglas, Knox, Madison or Lancaster counties of Nebraska or Charles Mix county of South Dakota as residing on or near a reservation. Pub. L. 104-109 made technical corrections to laws relating to Native Americans and added Burt, Hall, Holt, Platte, Sarpy, Stanton, and Wayne counties of Nebraska and Pottawatomie and Woodbury counties of Iowa to the Ponca Tribe of Nebraska SDA.
⁴⁵ Special programs have been established by Congress irrespective of the eligibility regulations. Eligibility for services at these facilities is based on the legislative history of the appropriation of funds for the particular facility, rather than the eligibility regulations. Historically services have been provided at Rapid City (S. Rept. No. 1154, FY 1967 Interior Approp. 89th Cong. 2d Sess.).
⁴⁶ Historically part of Isabella Reservation Area for the Saginaw Chippewa Indian Tribe of Michigan and the Eastern Michigan Service Unit population since 1979.
⁴⁷ The Samish Indian Tribe Nation was Federally acknowledged in April 1996 as documented at 61 FR 15825, April 9, 1996. The counties listed were designated administratively as the SDA, to function as a CHSDA, for the purposes of operating a CHS program pursuant to the ISDEAA, Pub. L. 93-638.
⁴⁸ CHSDA counties for the Sault Ste. Marie Tribe of Chippewa Indians, Michigan, were designated by regulation (42 CFR 136.22(a)(4)).
⁴⁹ The Shinnecock Indian Nation was Federally acknowledged in June 2010 as documented at 75 FR 34760, June 18, 2010. The counties listed were designated administratively as the SDA, to function as a CHSDA, for the purposes of operating a CHS program pursuant to the ISDEAA, Pub. L. 93-638.
⁵⁰ Lemhi County, ID, has historically been a part of the Fort Hall Service Unit population since 1979.
⁵¹ The Snoqualmie Indian Tribe was Federally acknowledged in August 1997 as documented at 62 FR 45864, August 29, 1997. The counties listed were designated administratively as the SDA, to function as a CHSDA, for the purposes of operating a CHS program pursuant to the ISDEAA, Pub. L. 93-638.
⁵² On December 30, 2011 the Office of Assistant Secretary-Indian Affairs reaffirmed the Federal recognition of the Tejon Indian Tribe. The county listed was designated administratively as the SDA, to function as a CHSDA, for the purposes of operating a CHS program pursuant to the ISDEAA, Pub. L. 93-638.
⁵³ The Secretary acting through the Service is directed to provide contract health services to Turtle Mountain Band of Chippewa Indians that reside in Trenton Service Unit, North Dakota and Montana, in Divide, Mackenzie, and Williams counties in the state of North Dakota and the adjoining counties of Richland, Roosevelt, and Sheridan in the state of Montana (Sec. 815, Pub. L. 94-437).
⁵⁴ Rapides County, LA, has historically been a part of the Tunica Biloxi Service Unit population since 1982.
⁵⁵ According to Pub. L. 100-95, Sec. 12, members of the Wampanoag Tribe of Gay Head (Aquinnah) residing on Martha's Vineyard are deemed to be living on or near an Indian reservation for the purposes of eligibility for Federal services.
⁵⁶ The counties listed are designated administratively as the SDA, to function as a PRC SDA, for the purposes of operating a PRC program pursuant to the ISDEAA, Pub. L. 93-638.
⁵⁷ The Wilton Rancheria, California had Federal recognition restored in July 2009 as documented at 74 FR 33468, July 13, 2009. Sacramento County, CA, was designated administratively as the SDA, to function as a CHSDA. Sacramento County was not covered when Congress originally established the State of California as a CHSDA excluding certain counties including Sacramento County (25 U.S.C. 1680).

Dated: March 31, 2016.
Elizabeth A. Fowler,
Deputy Director for Management Operations, Indian Health Service.

[FR Doc. 2016-07951 Filed 4-6-16; 8:45 am]

BILLING CODE 4165-16-P